DEPARTMENT OF COMMERCE

Foreign-Trade Zones Board

[B-59-2017]

Foreign-Trade Zone (FTZ) 47—Boone County, Kentucky; Notification of Proposed Production Activity; Valeo North America, Inc.; (Automotive Clutch and Compressor Assemblies); Winchester, Kentucky

Valeo North America, Inc. (Valeo) submitted a notification of proposed production activity to the FTZ Board for its facility in Winchester, Kentucky within FTZ 47. The notification conforming to the requirements of the regulations of the FTZ Board (15 CFR 400.22) was received on September 19, 2017.

The applicant has also submitted a separate application for FTZ designation at the Valeo facility under FTZ 47. The facility is used for the final assembly of clutch and compressor components for the automotive industry. Pursuant to 15 CFR 400.14(b), FTZ activity would be limited to the specific foreign-status materials and components and specific finished products described in the submitted notification (as described below) and subsequently authorized by the FTZ Board.

Production under FTZ procedures could exempt Valeo from customs duty payments on the foreign-status components used in export production. On its domestic sales, for the foreign-status materials/components noted below, Valeo would be able to choose the duty rates during customs entry procedures that apply to: Compressor assemblies for motor vehicles; and, electromagnetic clutch assemblies (duty rate ranges from free to 3.1%). Valeo would be able to avoid duty on foreign-status components which become scrap/waste. Customs duties also could possibly be deferred or reduced on foreign-status production equipment.

The components and materials sourced from abroad include: Electromagnetic clutch assemblies; compressor bodies and housings; compressor coils; rotors; compressor armatures; compressor fittings; stainless steel bolts; stainless steel screws; and, electromagnetic shims and snap rings (duty rate ranges from free to 8.5%).

Public comment is invited from interested parties. Submissions shall be addressed to the Board's Executive Secretary at the address below. The closing period for their receipt is November 7, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: September 22, 2017.
Andrew McGilvray,
Executive Secretary.

[FR Doc. 2017-20816 Filed 9-27-17; 8:45 am]

BILLING CODE 3510-DS-P